DEPARTMENT OF TRANSPORTATION

Federal Highway Administration

Notice of Final Federal Agency Actions on Proposed Highway Project in Wisconsin

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, Interstate I-94, I-894, and U.S. Highway 45 (Zoo Interchange) in Milwaukee County, Wisconsin. Those actions grant approvals for the project. The project will replace the existing roadway and bridges and reconfigure the study-area freeway system to address safety issues and design deficiencies and provide additional capacity. The project termini are 124th Street on the west, 70th Street on the east, Burleigh Street on the north and Lincoln Avenue on the south. Primary design features of the project include: All exits on the right, through traffic stays left; full 8- to 12-foot shoulders on all ramps and freeways; four lanes on each approach leg; three lanes on US 45 northbound and southbound through the core of the interchange; two lanes on I-94 eastbound and westbound through the core of the interchange (with a wider median that could accommodate a third lane in the future); several ramps with two lanes instead of one; smoother curves on all freeway-to-freeway interchange ramps (minimum 45 mph design speed); 60 mph design speed on I-94 and US 45; access to and from US 45/I-894 provided to US 18 (Bluemound Road), but no direct access between I-94 and Bluemound Road.

DATES: By this notice, the FHWA is advising the public of final agency actions subject to 23 U.S.C. 139(l)(1). A claim seeking judicial review of the Federal agency actions on the highway project will be barred unless the claim is filed within 180 days of this Federal Register notice. If the Federal law that authorizes judicial review of a claim provides a time period of less than 180 days for filing such claim, then that shorter time period still applies.

FOR FURTHER INFORMATION CONTACT: Bethaney Bacher-Gresock, FHWA, 525 Junction Road Suite 8000, Madison, Wisconsin 53717; telephone: (608) 662-2119, email: Bethaney.Bacher-Gresock@dot.gov. The FHWA Wisconsin Division's normal office hours are 7 a.m. to 4 p.m. central time. For the Wisconsin Department of Transportation (WisDOT): William Mohr, PE, Wisconsin Department of Transportation, Southeast Region, 141 NW. Barstow Street, Waukesha, Wisconsin 53187; telephone: (262) 548-6421; email: dotdtsdsezoo@dot.wi.gov.

SUPPLEMENTARY INFORMATION: Notice is hereby given that FHWA has taken final agency actions subject to 23 U.S.C. 139(l)(1) by issuing approvals for the following highway project: Interstate I-94, I-894, and U.S. Highway 45 (Zoo Interchange) in Milwaukee County, Wisconsin, Project I.D. 1060-33-01. The project involves reconstructing and providing additional capacity on approximately 3.5 miles of Interstate 94 (I-94) and approximately 5.5 miles of United States Highway 45 (US 45) which includes a portion of I-894, and local streets affected by the freeway. The actions taken by FHWA, and laws under which such actions were taken, are described in the Final Environmental Impact Statement (FEIS) for the project, approved on October 3, 2011 (FHWA-WISC-EIS-09-01-F), in the Record of Decision (ROD) issued on February 10, 2012, and in other documents in the FHWA or WisDOT project records. The FEIS, ROD, and other project records are available by contacting FHWA or WisDOT at the addresses provided above.

The FEIS can also be viewed on the project Web site: http://www.dot.wisconsin.gov/projects/sefreeways/zooenviron.htm.

This notice applies to all Federal agency decisions as of the issuance date of this notice and all laws under which such actions were taken, including but not limited to:

1. General: National Environmental Policy Act (NEPA) [42 U.S.C. 4321- 4351]; Federal-Aid Highway Act (FAHA) [23 U.S.C. 109 and 23 U.S.C. 128].

2. Air: Clean Air Act [42 U.S.C. 7401- 7671(q)].

3. Land: Section 4(f) of the Department of Transportation Act of 1966 [23 U.S.C. 138 and 49 U.S.C. 303], Section 6(f) of the Land and Water Conservation Act as amended [16 U.S.C. 4601], Farmland Protection Policy Act of 1980 [7 U.S.C. 4201-4209], and National Trails System Act [16 U.S.C. 1241-1249].

4. Wildlife: Endangered Species Act of 1973 [16 U.S.C. 1531-1543 and Section 1536]; Fish and Wildlife Coordination Act [16 U.S.C. 661-666(c)]; Migratory Bird Treaty Act [16 U.S.C. 760c-760g].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act [25 U.S.C. 3001 et seq.].

6. Social and Economic: Civil Rights Act of 1964 [42 U.S.C. 2000(d) et. seq.]; American Indian Religious Freedom Act [42 U.S.C. 1996]; Americans with Disabilities Act [42 U.S.C. 12101]; Uniform Relocation Assistance and Real Property Acquisition Act of 1970 [42 U.S.C. 4601 et seq. as amended by the Uniform Relocation Act Amendments of 1987 [Pub. L. 100-17].

7. Wetlands and Water Resources: Clean Water Act (Section 404, Section 401, Section 319) [33 U.S.C. 1251- 1376]; Land and Water Conservation Fund [16 U.S.C. 460l-4 to 460l-11]; Safe Drinking Water Act [42 U.S.C. 300(f)- 300(j)(6)]; TEA-21 Wetlands Mitigation [23 U.S.C. 103(b)(6)(m), 133(b)(11)]; Flood Disaster Protection Act, [42 U.S.C. 4001-4128]; Emergency Wetlands Resources Act, [16 U.S.C. 3921, 3931].

8. Hazardous Materials: Comprehensive Environmental Response, Compensation, and Liability Act of 1980 (CERCLA) as amended [42 U.S.C. 9601-9657]; Superfund Amendments and Reauthorization Act of 1986 [Pub. L. 99-499]; Resource Conservation and Recovery Act [42 U.S.C. 6901 et. seq.].

9. Executive Orders: E.O. 11990 Protection of Wetlands; E.O. 11988 Floodplain Management as amended by E.O. 12148; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: March 5, 2012.
George R. Poirier,
Division Administrator, FHWA Wisconsin Division, Madison, Wisconsin.

[FR Doc. 2012-5803 Filed 3-8-12; 8:45 am]

BILLING CODE 4910-RY-P